DEPARTMENT OF THE INTERIOR

Fish and Wildlife Service

[FWS-R2-R-2016-N168; FXRS12650200000-178-FF02R04000]

Little Sandy National Wildlife Refuge, Wood County, Texas; Draft Comprehensive Conservation Plan and Draft Environmental Assessment

AGENCY: Fish and Wildlife Service, Interior.

ACTION: Notice of availability; request for comments.

SUMMARY: We, the U.S. Fish and Wildlife Service (Service), announce the availability of a draft Comprehensive Conservation Plan (dCCP) and the draft Environmental Assessment (dEA) for Little Sandy National Wildlife Refuge (NWR), located approximately 80 miles east of Dallas, Texas, for public review and comment. The dCCP/dEA describes our proposal for managing the refuge for the next 15 years.

DATES: To ensure consideration, please send your written comments by February 23, 2017. We will announce any potential upcoming public meetings in local news media.

ADDRESSES: You may submit comments or requests for copies or more information by any of the following methods. You may request hard copies or a CD-ROM of the documents. Please contact David Weaver, Refuge Manager, or Joseph Lujan, Natural Resource Planner.

Email: Joseph_Lujan@fws.gov. Include “Little Sandy NWR draft CCP and draft EA” in the subject line of the message.

Fax: Attn: Joseph Lujan, 505-248-6803.

U.S. Mail: Joseph Lujan, Natural Resource Planner, U.S. Fish and Wildlife Service, NWRS, Division of Planning, P.O. Box 1306 Room 4335, Albuquerque, New Mexico 87103.

In-Person Drop-off, Viewing, or Pickup: In-Person Drop-off: You may drop off comments during regular business hours of 8 a.m. to 4:30 p.m. at 500 Gold Avenue SW; 4th Floor, Room 4335; Albuquerque, New Mexico 87102. Little Sandy NWR, CCP Project, P.O. Box 340, Broken Bow, Oklahoma 74728

FOR FURTHER INFORMATION CONTACT: David Weaver, Refuge Manager, Little Sandy NWR, CCP Project, P.O. Box 340, Broken Bow, Oklahoma 74728; phone: 580-584-6211.

SUPPLEMENTARY INFORMATION:

Introduction

With this notice, we continue the Comprehensive Conservation Planning (CCP) process for the Little Sandy NWR. We started this process through a notice in the Federal Register (72 FR 46095; August 16, 2007).

The primary purpose of Little Sandy NWR is to protect a remnant of the bottomland hardwood forest ecosystem along the Sabine River in East Texas. The Little Sandy NWR was established in December 1986 as a permanent non-development easement with the Little Sandy Hunting and Fishing Club (LSHFC). It is managed as a unit of the National Wildlife Refuge System (NWRS) out of the Little River NWR Complex headquarters in Broken Bow Oklahoma.

Background

The CCP Process

The National Wildlife Refuge System Improvement Administration Act of 1966 (16 U.S.C. 668dd-668ee) (Refuge Administration Act), as amended by the National Wildlife Refuge System Improvement Act of 1997, requires us to develop a CCP for each national wildlife refuge. The purpose for developing a CCP is to provide refuge managers with a 15 year plan for achieving refuge purposes and contributing toward the mission of the NWRS, consistent with sound principles of fish and wildlife management, conservation, legal mandates, and FWS policies. In addition to outlining broad management direction on conserving wildlife and their habitats, CCPs identify wildlife-dependent recreational opportunities available to the public, including opportunities for wildlife observation and photography, and environmental education and interpretation. We will review and update the CCP at least every 15 years in accordance with the Refuge Administration Act.

Public Outreach

Formal scoping began when we published a notice of intent to prepare a CCP and EA in the Federal Register on August 16, 2007, and formally invited the Texas Parks and Wildlife Department (TPWD) to participate in the development of the document. TPWD has provided constant input and the Service has continued to involve them throughout the planning process. Information sheets were sent to the public, and news releases were sent to a variety of media outlets. A public open house meeting was held on September 9, 2009, at Jarvis Christian College in Hawkins, Texas. Additional written comments were received prior to the open house. A variety of stakeholders contributed feedback at the open house meeting and via written comments and we used the feedback in development of the dCCP.

CCP Alternatives We Are Considering

The public raised multiple issues during the public scoping process that initiated this dCCP. Our dCCP addresses them in detail. A full description of each alternative is in the dEA. To address these issues, we developed and evaluated the following alternatives, summarized below.

Comparison of Alternatives
Issues and topics | Alternative A: Current management | Alternative B: Proposed action
I. Habitat Management
• Climate Change | The Service has limited activities at Little Sandy NWR; as such, the Refuge attempts to limit carbon footprints by consolidating trips from Caddo Lake NWR; what few trips are made to the Refuge are offset by the conservation of the bottomland hardwood habitat found on the Refuge. There are no Service facilities present on the Refuge; therefore, there is no effort to utilize green products commonly associated with such facilities | The Refuge would establish a baseline dataset for Refuge resources. To do so, the Refuge would use technologies including historical imagery and tabular data, existing maps and records, LiDAR, contemporary ortho-rectified imagery, ground-truthing and on-screen digitizing. This baseline dataset would enable the Refuge to develop a decision-based research and monitoring program to track potential impacts from climate change on the Refuge. There would be no Service development of facilities on the Refuge.
• Land Acquisition | The Service would work within the 10 percent rule which allows Refuge expansion to occur up to 10 percent of the total Refuge establishment acres within the Refuge or up to 1 mile of the existing Refuge boundary. This includes fee acquisition and conservation easements from willing sellers or donors | The Refuge will participate in a partnership driven Land Protection Planning process that would guide land acquisition efforts and provide the opportunity to acquire any adjacent lands from willing sellers. Both bottomland and upland tracts would be considered in the plan.
• Flora Inventory | An initial habitat assessment of the refuge was completed by refuge staff when Little Sandy was brought into the Refuge System, and an additional ecological community characterization survey was conducted by the U.S. Geological Survey's National Wetland Research Center. Current inventory activities are limited to identification and confirmation of invasive flora species when Little Sandy Hunting and Fishing Club (LSHFC) members report them | Same as Alternative A plus the development of a comprehensive species list for the Refuge would be beneficial for determining ecological integrity and habitat diversity as well as providing a baseline dataset from which any changes to habitat as a result of climate change and management activities can be tracked.
• Prescribed Burning | There is currently no prescribed fire plan or program on Little Sandy NWR. A Fire program would mimic natural fire ecology and be beneficial to upland habitat | The completion and implementation of a step-down fire management plan would be focused on mimicking natural fire ecology on the upland portions of the Refuge, controlling invasive flora species, reducing fuel loads from wildfires and promote pine savanna habitat.
• Invasive Species Management (Flora) | Limited management activities are present in the form of chemical (Garlon 3A and Garlon4) treatments when identified by LSHFC members. In 2011 and 2012, limited funding was available to treat Chinese tallow and privet | Same as Alternative A plus increased efforts to locate, map, treat, and monitor these, as well as other invasive species, which may be present on the Refuge. In addition, some stumps may be cut and sprayed to minimize spread of invasive species. This can be conducted in conjunction with the Flora Inventory as described above. Prescribed burning can also be used to treat with the production of a fire management plan.
• Water Body Management | Brumley and Overton Lake levels managed by LSHFC for recreation and hunting purposes; the Refuge serves in an advisory function only | Same as Alternative A.
II. Wildlife Management
• Fauna Inventory | Annual aerial waterfowl surveys were conducted between October and March, from 2008-2011, on a monthly basis by the Region 2 pilot and a Refuge staff member. Aerial surveys were halted in 2011 when the Region no longer had a airplane. In addition, annual bird point counts are conducted with assistance from Region 2 migratory bird biologist, Texas Parks and Wildlife biologist and Refuge staff each spring in May and June | Same as Alternative A, plus expand current wildlife monitoring on the Refuge and coordinate with the Division of Biological Sciences. This alternative would also provide an opportunity to utilize LiDAR to monitor changes in habitat throughout the Refuge. The alternative includes; expansion of bird point counts and monitoring to meet Service standards, continuation of on the ground waterfowl surveys and the collection of biological data from fauna harvested by the LSHFC.
• Nuisance and Invasive Species Management (Fauna) | The LSHFC staff identifies and removes beaver dams throughout the year from culverts and small drains to promote drainage and maintain trails. Hunt club members may take hogs during other hunting activities, but these circumstances are opportunistic and relatively rare; there have been coordinated trapping efforts between the Service and LSHFC since 2013 | Under this alternative, the Refuge will develop step down management plans focused on nuisance and invasive species management. Step Down Plans would be initiated for an Invasive Species Management Plan, a Feral Hog and Beaver Management Plan. Step Down Management Plans may initiate management practices for nuisance species (beaver, nutria), such as dam removal and trapping, reducing the negative impacts to existing infrastructure. Additionally, the Refuge will utilize their own staff or contract services to conduct hunting and trapping of feral hogs.
III. Staff Requirements Under the Two Alternatives
| Zero (0) Full-Time Equivalent (FTE) Staff | 2.5 FTE.
IV. Budgets Under the Two Alternatives
• Refuge Base Operational Budget | $0 | $612,476.00.
• Annual Maintenance | $0 | $0.
• Fire Operations | $0 | $0.
• Tallow/Forest Inventory | $18,884.00 | $18,884.00.
Total Budget | $18,884.00 | $631,360.00.

Public Availability of Documents

In addition to using any methods in ADDRESSES, you can view or obtain documents at the following locations:

• Little River NWR, P.O. Box 340, Broken Bow, Oklahoma 74728, between the hours of 8 a.m. and 4:30 p.m., Monday through Friday.

• Our Web site: https://www.fws.gov/southwest/refuges/texas/little_sandy/CCP.

• The following public libraries:

Library | Address | Phone number
Allen Memorial Public Library | 121 East Blackbourn Street, Hawkins, Texas 75765 | 903-769-2241
Tyler Public Library | 201 South College Avenue, Tyler, Texas 75702 | 903-593-7323

Submitting Comments/Issues for Comment

We consider comments substantive if they:

• Question, with reasonable basis, the accuracy of the information in the document;

• Question, with reasonable basis, the adequacy of the dEA;

• Present reasonable alternatives other than those presented in the dEA; and/or

• Provide new or additional information relevant to the dEA.

Next Steps

After this comment period ends, we will analyze the comments and then address them in the form of a final CCP and The National Environmental Policy Act decision document.

Public Availability of Comments

Before including your address, phone number, email address, or other personal identifying information in your comment, you should be aware that your entire comment—including your personal identifying information—may be made publicly available at any time. While you can ask us in your comment to withhold your personal identifying information from public review, we cannot guarantee that we will be able to do so.

Dated: January 11, 2017.
Benjamin Tuggle,
Regional Director, Southwest Region, U.S. Fish and Wildlife Service.

[FR Doc. 2017-01543 Filed 1-23-17; 8:45 am]

BILLING CODE 4333-15-P